DEPARTMENT OF HOMELAND SECURITY

Federal Emergency Management Agency

Agency Information Collection Activities: Proposed Collection; Comment Request

AGENCY: Federal Emergency Management Agency, Department of Homeland Security.

ACTION: Notice and request for comments.

SUMMARY: The Federal Emergency Management Agency, as part of its continuing effort to reduce paperwork and respondent burden, invites the general public and other Federal agencies to take this opportunity to comment on a proposed, revised information collection. In accordance with the Paperwork Reduction Act of 1995, this notice seeks comments concerning National Defense Executive Reserve Personal (NDRP) Qualifications Statement.

SUPPLEMENTARY INFORMATION: The NDER program was established by the Defense Production Act of 1950, as amended, section 710(e). Under Executive Order 12919, National Defense Industrial Resources Preparedness, June 3, 1994, part VI, section 601, the Director of the Federal Emergency Management Agency coordinates the NDER program activities of departments and agencies that have NDER units. The NDER is composed of persons with recognized expertise from industry, organized labor, professional groups, and academia to serve in executive positions in the Federal Government during the event of an emergency that requires such employment. The head of a department or agency may activate an NDER unit in whole or in part, upon the written determination that an emergency affecting the national security or defense preparedness of the United States exists, and that the activation of the unit is necessary to carry out the emergency program functions of the department or agency.

Collection of Information

Title: The National Defense Executive Reserve Personal Qualifications Statement.

Type of Information Collection: Extension of a currently approved collection.

OMB Number: 1660-0001.

Form Numbers: FEMA Form 85-3, National Defense Executive Reserve Personal Qualifications Statement.

Abstract: The NDER is a Federal government program coordinated by FEMA. To become a member of the NDER, individuals with the requisite qualifications must complete a FEMA Form 85-3 is an application form that is used by Federal departments and agencies to fill NDER vacancies and to ensure that individuals are qualified to perform in the assigned emergency positions. FEMA reviews the application form to ensure that the candidate meets all basic membership qualifications for the Executive Reserve; ensures that the applicant is not already serving in a Federal department or agency sponsored unit; and, in some cases, determines the Federal department or agency best suited for the applicant.

Affected Public: Individuals or Households.

Estimated Total Annual Burden Hours: 15 hours.

Annual Burden Hours
Project/Activity (Survey, Form(s), Focus Group, Worksheet, etc.) | No. of respondents: (A) | Frequency of responses: (B) | Burden hours per respondent: (C) | Annual responses: (A×B) | Total annual burden hours: (A×B×C)
FEMA Form 85-3 | 30 | 1 | .5 hr (30 mins.) | 30 | 15
TOTAL | 30 | 1 | .5 | 30 | 15

Estimated Cost: The total cost (all respondents combined) to respondents is $1,693.00 with the average cost per respondent of $34.00.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Chief, Records Management Section, Information Resources Management Branch, Information Technology Services Division, Federal Emergency Management Agency, 500 C Street, SW., Room 316, Washington, DC 20472.

FOR FURTHER INFORMATION CONTACT: Contact Ms. Margaret B. Roberts, Program Manager, National Defense Executive Reserve, Response and Recovery Directorate at (202) 646-3564. You may contact the Records Management Branch for copies of the proposed collection of information at facsimile number (202) 646-3347 or e-mail address: FEMA-Information-Collections@dhs.gov.

Dated: January 25, 2006.
George Trotter,
Acting Branch Chief, Information Resources Management Branch, Information Technology Services Division.

[FR Doc. E6-1330 Filed 1-31-06; 8:45 am]

BILLING CODE 9110-10-P